DEPARTMENT OF AGRICULTURE

Office of the Secretary

Tongass Advisory Committee

AGENCY: Forest Service, USDA.

ACTION: Notice of extension of call for nominations period.

SUMMARY: The U.S. Department of Agriculture (USDA) is extending the call for nominations an additional fifteen days, from February 27, 2014, to March 14, 2014, for the solicitation of membership to the newly established Tongass Advisory Committee (Committee). The USDA published a Notice of Intent in the Federal Register on January 13, 2014, (79 FR 2147). The USDA requested nominations and applications for individuals to be considered as Committee members. The public is invited to submit nominations for membership. Further information about the Committee is posted on the Tongass Advisory Committee Web site: http://www.fs.usda.gov/goto/R10/Tongass/TAC.

DATES: The extension will be effective February 27, 2014. Nominations must contain a completed application packet that includes the nominee's name, resume, and completed form AD-755 (Advisory Committee Membership Background Information). The form AD-755 may be obtained from Forest Service contact person or from the following Web site: http://www.ocio.usda.gov/forms/doc/AD-755_Master_2012_508%20Ver.pdf. The package must be sent to the address below.

ADDRESSES: Send nominations and applications to Nicole McMurren, Tongass Advisory Committee Coordinator, U.S. Department of Agriculture, Forest Service, Tongass National Forest, P.O. Box 309, Petersburg, AK 99833-0309.

FOR FURTHER INFORMATION CONTACT: Nicole McMurren, U.S. Forest Service, Petersburg, AK 99833; telephone: 907-772-5875, email: nmcmurren@fs.fed.us. Individuals who use telecommunications devices or the deaf (TDD) may call the Federal Information Relay Service (FIRS) at 1-800-877-8339 between 8:00 a.m. and 8:00 p.m., Eastern Standard Time, Monday through Friday.

Dated: March 5, 2014.
Gregory Parham,
Assistant Secretary for Administration, United States Department of Agriculture.

[FR Doc. 2014-05447 Filed 3-12-14; 8:45 am]

BILLING CODE 3411-15-P